ENVIRONMENTAL PROTECTION AGENCY

[ER-FRL-6698-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20080004, ERP No. D-NSA-A06182-00 PROGRAMMATIC—EIS—Complex Transformation, To Make the U.S. Nuclear Weapon Complex Smaller, and more Responsive, Efficient and Secure in Order to Meet National Security Requirements, CA, NV, NM, SC, TN and TX

Summary: EPA does not object to the proposed action. Rating LO.

EIS No. 20080035, ERP No. D-IBR-L39041-WA Yakima River Basin Water Storage Feasibility Study, Create Additional Water Storage, Benton, Yakima, Kittitas Counties, WA

Summary: EPA expressed environmental objections to the proposed Black Rock Alternative because of potential impacts to groundwater, and subsequent migration of radiological and chemical contaminants to the Columbia River, and a lack of effective mitigation measures. EPA's concerns about the Wymer Dam and Reservoir and Wymer Dam Plus Yakima River Pump Exchange alternatives were the potential adverse effects on wetlands, riparian areas, water quality, and habitat. EPA recommended additional evaluation of the seepage impacts, as well as further examination of proposed State Alternatives, which may help to increase water availability with minimal environmental effects. Rating EO2.

EIS No. 20080071, ERP No. D-NOA-L39164-WA PROGRAMMATIC—Incorporation of the Revised Washington Shoreline Management Act Guidelines Into the Federally Approved Washington Coastal Management Program, Amendment No. 4 Approval, Coastal Counties in WA

Summary: EPA does not object to the proposed project. Rating LO.

Final EISs

EIS No. 20080087, ERP No. F-FRC-G03036-00 Fayetteville/Greenville Expansion Project, Construction and Operation of the Natural Gas Pipeline Facilities in Arkansas and Mississippi

Summary: No formal comment letter was sent to the preparing agency.

EIS No. 20080088, ERP No. F-FHW-J40261-MT Miller Creek Road Project, To Provide Safe and Improved Access Between U.S. 93 and the Miller Creek Area, Missoula County, MT

Summary: EPA does not object to the proposed project.

Dated: April 22, 2008.
Robert W. Hargrove,
Director, NEPA Compliance Division, Office of Federal Activities.

[FR Doc. E8-9074 Filed 4-24-08; 8:45 am]

BILLING CODE 6560-50-P